FEDERAL COMMUNICATIONS COMMISSION

[DA 19-1215]

Filing Window for New Rural Digital Low Power Television and TV Translator Applicants Displaced by Incentive Auction and Station Repack December 2, 2019 to January 31, 2020

AGENCY: Federal Communications Commission.

ACTION: Notice.

SUMMARY: The Media Bureau of the Federal Communications Commission announces a window filing opportunity for pending new digital low power and TV translator stations (LPTV/translator stations) displaced by the Incentive Auction and station repack to amend their applications to specify a new channel between 2 to 36 (in core channels).

DATES: The window will open December 2, 2019 and close on January 31, 2020 at 11:59 p.m. ET.

FOR FURTHER INFORMATION CONTACT: Shaun Maher, Video Division, Media Bureau, Federal Communications Commission, Shaun.Maher@fcc.gov, (202) 418-2324.

SUPPLEMENTARY INFORMATION: In 2009, the Media Bureau began accepting applications for new rural digital LPTV/translator stations on a limited basis and then later froze those filings. The Media Bureau suspended processing of these applications due to the possibility that they could be displaced by the forthcoming Incentive Auction and repacking process. With the completion of the Incentive Auction and the progress made in the post-Incentive Auction transition, it is appropriate to give these applicants an opportunity to amend their applications to specify a new digital in core channel.

To be eligible to file in this window, the applicant must have a pending application for new digital LPTV/translator station that was displaced by the Incentive Auction and repacking process. In order to be considered “displaced” for purposes of filing in this window, an LPTV/translator applicant must: (1) Be subject to displacement by a full power or Class A television station on the repacked television band (channels 2-36) as a result of the Incentive Auction and repacking process, (2) have proposed a frequency repurposed for new, flexible use by a 600 MHz Band wireless licensee, or (3) have proposed a frequency that will serve as part of the 600 MHz Band guard bands (which includes the duplex gap).

In addition to specifying a new in core digital channel, applicants may modify their technical specifications provided such changes do not result in a change in transmitter site of more than 48 kilometers from the reference coordinates specified in their original application. To preserve the “rural” filing restriction in the original 2009 window, amended facilities must specify transmitting antenna site coordinates (geographic latitude and longitude) located more than 121 kilometers (75 miles) from the reference coordinates of the cities listed in Appendix A of the Public Notice. The proposed facilities may not cause interference to the predicted service of licenses and valid construction permits for full power television, Class A television and LPTV/translator stations nor the predicted service of any previously-filed application for any of these services. Eligible applicants may file an amendment to their pending application and such filing will be treated as a minor amendment provided it complies with these restrictions. There is no fee for filing this amendment.

All amendments submitted during the window will be considered filed on the last day of the window. Mutually exclusive (MX) applicants will be given an opportunity to resolve their MX through settlement or engineering amendment that may be submitted during a settlement window to be announced by the Media Bureau by separate public notice. If two or more applications remain MX with one another after the close of the settlement window, the applications will be subject to the Commission's competitive bidding rules.

Applications that are not amended to specify an in core channel during this window will be subsequently dismissed.

For additional information or questions, please contact Mark Colombo (technical), Mark.Colombo@fcc.gov, (202) 418-7611 or Shaun Maher (legal), Shaun.Maher@fcc.gov, (202) 418-2324 of the Video Division, Media Bureau.

Barbara Kreisman,
Chief, Video Division, Media Bureau.

APPENDIX A

Amendments filed during the window to allow applicants for new digital low power television and television translator stations on channels 37 to 51 (out of core channels) to specify a channel between 2 and 36 (in core channels) may not propose facilities located within 121 kilometers (75 miles) of the reference coordinates listed below for the following cities. Source of cities: January 1, 2008 Nielsen Media Research Estimates. Source of coordinates: Section 76.53 of the Commission's Rules.

DMA Ranking Market | North latitude | West longitude
1. New York City, New York | 40-45-06 | 073-59-39
2. Los Angeles, California | 34-03-15 | 118-14-28
3. Chicago, Illinois | 41-52-28 | 87-38-22
4. Philadelphia, Pennsylvania | 39-56-58 | 75-9-21
5. Dallas/Fort Worth, Texas | 32-47-09 | 096-47-37
6. San Francisco, California | 37-46-39 | 122-24-40
7. Boston, Massachusetts | 42-21-24 | 71-3-25
8. Atlanta, Georgia | 33-45-10 | 84-23-37
9. Washington, District of Columbia | 38-53-51 | 77-0-33
10. Houston, Texas | 29-45-26 | 95-21-37
11. Detroit, Michigan | 42-19-48 | 83-2-57
12. Phoenix, Arizona | 33-27-12 | 112-4-28
13. Tampa, Florida | 27-56-58 | 82-27-26
14. Seattle, Washington | 47-36-32 | 122-20-12
15. Minneapolis, Minnesota | 44-58-57 | 93-15-43
16. Miami, Florida | 25-46-37 | 80-11-32
17. Cleveland, Ohio | 41-29-51 | 81-41-50
18. Denver, Colorado | 39-44-58 | 104-59-22
19. Orlando, Florida | 28-32-42 | 81-22-38
20. Sacramento, California | 38-34-57 | 122-23-34
21. St. Louis, Missouri | 38-37-45 | 90-12-22
22. Pittsburgh, Pennsylvania | 40-26-19 | 80-0-0
23. Portland, Oregon | 45-31-6 | 122-40-35
24. Baltimore, Maryland | 39-17-26 | 76-36-45
25. Charlotte, North Carolina | 35-13-44 | 80-50-45
26. Indianapolis, Indiana | 39-46-7 | 86-9-46
27. San Diego, California | 32-42-53 | 117-9-21
28. Raleigh, North Carolina | 35-46-38 | 78-38-21
29. Hartford, Connecticut | 41-46-12 | 72-40-49
30. Nashville, Tennessee | 36-9-33 | 86-46-55
31. Kansas City, Missouri | 39-4-56 | 94-35-20
32. Columbus, Ohio | 39-57-47 | 83-0-17
33. Cincinnati, Ohio | 39-6-7 | 84-30-35
34. Milwaukee, Wisconsin | 43-2-19 | 87-54-15
35. Salt Lake City, Utah | 40-45-23 | 111-51-26
36. Greenville, South Carolina | 34-50-50 | 82-24-1
37. San Antonio, Texas | 29-25-37 | 98-29-6
38. West Palm Beach, Florida | 26-42-36 | 80-3-5
39. Grand Rapids, Michigan | 42-58-3 | 85-40-13
40. Birmingham, Alabama | 33-31-1 | 86-48-36
41. Harrisburg, Pennsylvania | 40-15-43 | 76-52-59
42. Norfolk, Virginia | 36-51-10 | 76-17-21
43. Las Vegas, Nevada | 36-10-20 | 115-8-37
44. Albuquerque, New Mexico | 35-5-1 | 106-39-5
45. Oklahoma City, Oklahoma | 35-28-26 | 97-31-4
46. Greensboro, North Carolina | 36-4-17 | 79-47-25
47. Memphis, Tennessee | 35-8-46 | 90-3-13
48. Louisville, Kentucky | 38-14-47 | 85-45-49
49. Jacksonville, Florida | 30-19-44 | 81-39-42
50. Buffalo, New York | 42-52-52 | 78-52-21
51. Austin, Texas | 30-16-9 | 97-44-37
52. Providence, Rhode Island | 41-49-32 | 71-24-41
53. New Orleans, Louisiana | 29-56-53 | 90-4-10
54. Scranton, Pennsylvania | 41-24-32 | 75-39-46
55. Fresno, California | 36-44-12 | 119-47-11
56. Albany, New York | 42-39-1 | 73-45-1
57. Little Rock, Arkansas | 34-44-52 | 92-16-37
58. Knoxville, Tennessee | 35-57-39 | 83-55-7
59. Richmond, Virginia | 37-32-15 | 77-26-9
60. Tulsa, Oklahoma | 36-9-12 | 95-59-34
61. Mobile, Alabama | 30-41-36 | 88-2-33
62. Dayton, Ohio | 39-45-32 | 84-11-43
63. Fort Myers, Florida | 26-38-42 | 81-52-6
64. Lexington, Kentucky | 38-2-50 | 84-29-46
65. Huntington, West Virginia | 38-25-12 | 82-26-33
66. Flint, Michigan | 43-0-50 | 83-41-33
67. Roanoke, Virginia | 37-16-13 | 79-56-44
68. Tucson, Arizona | 32-13-15 | 110-58-8
69. Wichita, Kansas | 37-41-30 | 97-20-16
70. Green Bay, Wisconsin | 44-30-48 | 88-0-50
71. Des Moines, Iowa | 41-35-14 | 93-37-0
72. Toledo, Ohio | 41-39-14 | 83-32-39
73. Honolulu, Hawaii | 21-18-36 | 157-51-48
74. Springfield, Missouri | 37-13-3 | 93-17-32
75. Omaha, Nebraska | 41-15-42 | 95-56-14
76. Portland, Maine | 43-39-33 | 70-15-19
77. Spokane, Washington | 47-39-32 | 117-25-33
78. Rochester, New York | 43-9-41 | 77-36-21
79. Paducah, Kentucky | 37-5-13 | 88-35-56
80. Syracuse, New York | 43-3-4 | 76-9-14
81. Columbia, South Carolina | 34-0-2 | 81-2-0
82. Shreveport, Louisiana | 32-30-46 | 93-44-58
83. Huntsville, Alabama | 34-44-18 | 86-35-19
84. Champaign, Illinois | 40-7-5 | 88-14-48
85. Madison, Wisconsin | 43-4-23 | 89-22-55
86. Chattanooga, Tennessee | 35-2-41 | 85-18-32
87. Cedar Rapids, Iowa | 41-58-48 | 91-39-48
88. Harlingen, Texas | 26-11-29 | 97-41-35
89. South Bend, Indiana | 43-40-33 | 86-15-1
90. Jackson, Mississippi | 32-17-56 | 90-11-6
91. Johnson City, Tennessee | 36-19-4 | 82-20-56
92. Burlington, Vermont/Plattsburgh, New York | 44-28-34 | 73-12-46
93. Colorado Springs, Colorado | 38-50-7 | 104-49-16
94. Baton Rouge, Louisiana | 30-26-58 | 91-11-0
95. Waco, Texas | 31-33-12 | 97-8-0
96. Davenport, Iowa | 41-31-24 | 90-34-21
97. Savannah, Georgia | 32-4-42 | 81-5-37
98. El Paso, Texas | 31-45-36 | 106-29-21
99. Johnstown, Pennsylvania | 40-19-35 | 78-55-3
100. Charleston, South Carolina | 32-46-35 | 79-55-53

[FR Doc. 2019-27941 Filed 12-26-19; 8:45 am]

BILLING CODE 6712-01-P